OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: David Guilford, Center for Leadership and Executive Resources Policy, Division for Strategic Human Resources Policy, 202-606-1391.

SUPPLEMENTARY INFORMATION: Appearing in the listing below are the individual authorities established under Schedules A, B, and C between July 1, 2006, and July 31, 2006. Future notices will be published on the fourth Tuesday of each month, or as soon as possible thereafter. A consolidated listing of all authorities as of June 30 is published each year.

Schedule A

213.3206 Department of Defense

(k) Business Transformation Agency. (1) Fifty temporary or time-limited (not to exceed four years) positions, at grades GS-11-15. The authority will be used to appoint persons in the following series: Management and Program Analysis, GS-343; Logistics Management, GS-346; Financial Management and Programs, GS-501; Accounting, GS-510; Computer Engineering, GS-854; Business and Industry, GS-1101; Operations Research, GS-1515; Computer Science, GS-1550; General Supply, GS-2001; Supply Program Management, GS-2003; Inventory Management, GS-2010; and Information Technology, GS-2210. Effective July 14, 2006.

Schedule B

No Schedule B appointments were approved for July 2006.

Schedule C

The following Schedule C appointments were approved during July 2006:

Section 213.3303 Executive Office of the President

Office of Management and Budget

BOGS60159 Special Assistant to the Director, Office of Management and Budget. Effective July 05, 2006.

BOGS60158 Special Assistant to the Director, Office of Management and Budget. Effective July 21, 2006.

BOGS60160 Special Assistant and Portfolio Manager to the Administrator, E-Government and Information Technology. Effective July 24, 2006.

BOGS60026 Confidential Assistant to the Associate Director for General Government Programs. Effective July 31, 2006.

Office of National Drug Control Policy

QQGS60092 Special Assistant to the Deputy Director, Office of Demand Reduction to the Special Assistant to the Director. Effective July 7, 2006.

QQGS60093 Special Assistant to the Associate Director for Legislative Affairs. Effective July 20, 2006.

QQGS60094 Policy Analyst to the Associate Deputy Director, State and Local Affairs. Effective July 21, 2006.

QQGS60095 Confidential Assistant to the Associate Director Office of Legislative Affairs. Effective July 27, 2006.

Section 213.3304 Department of State

DSGS61097 Foreign Affairs Officer (Ceremonials) to the Chief of Protocol. Effective July 17, 2006.

DSGS61101 Deputy Assistant Secretary (Principal) to the Assistant Secretary. Effective July 17, 2006.

DSGS61102 Special Assistant to the Senior Advisor to the Secretary and White House Liaison. Effective July 17, 2006.

DSGS61103 Staff Assistant to the Under Secretary for Arms Control and Security Affairs. Effective July 17, 2006.

DSGS61105 Senior Advisor to the Ambassador-At-Large (War Crimes). Effective July 20, 2006.

DSGS61099 Special Assistant to the Chief of Staff. Effective July 21, 2006.

DSGS61106 Staff Assistant to the Assistant Secretary for Economic and Business Affairs. Effective July 21, 2006.

DSGS61055 Protocol Officer (Visits) to the Chief of Protocol. Effective July 24, 2006.

Section 213.3305 Department of the Treasury

DYGS00429 Executive Assistant to the Secretary. Effective July 6, 2006.

DYGS00474 Scheduler to the Chief of Staff. Effective July 6, 2006.

DYGS60277 Speechwriter to the Assistant Secretary (Public Affairs). Effective July 6, 2006.

DYGS00402 Deputy Chief of Staff to the Chief of Staff. Effective July 7, 2006.

DYGS00473 Director of Protocol to the Assistant Secretary (Management) and Chief Financial Officer. Effective July 14, 2006.

DYGS00407 Senior Advisor to the Assistant Secretary for Financial Markets. Effective July 17, 2006.

Section 213.3306 Office of the Secretary of Defense

DDGS1694 Defense Fellow to the Special Assistant to the Secretary of Defense for White House Liaison. Effective July 7, 2006.

DDGS16955 Special Assistant to the Deputy Under Secretary of Defense (Budget and Appropriations Affairs). Effective July 7, 2006.

DDGS16958 Confidential Assistant to the Principal Deputy Assistant Secretary of Defense for Public Affairs. Effective July 7, 2006.

DDGS16961 Research Assistant to the Assistant Secretary of Defense for Public Affairs. Effective July 7, 2006.

DDGS16963 Protocol Specialist to the Special Assistant to the Secretary of Defense for Protocol. Effective July 7, 2006.

DDGS16957 Executive Assistant to the Special Assistant to the Assistant Secretary of Defense. Effective July 7, 2006.

DDGS16939 Director of Communications to the Principal Deputy Assistant Secretary of Defense (Legal Affairs). Effective July 17, 2006.

DDGS16968 Special Assistant to the Deputy Under Secretary of Defense for Business Transformation. Effective July 28, 2006.

DDGS16972 Staff Assistant to the Assistant Secretary of Defense (Special Operations/Low Intensity Conflict). Effective July 28, 2006.

DDGS16973 Special Advisor to the Special Assistant to the Secretary and Deputy Secretary of Defense. Effective July 28, 2006.

Section 213.3307 Department of the Army

DWGS60020 Personal and Confidential Assistant to the Principal Deputy Assistant Secretary of the Army (Acquisition, Logistics and Technology) and Director for Iraq Reconstruction and Program Management. Effective July 5, 2006.

Section 213.3308 Department of the Navy

DNGS60074 Confidential Staff Assistant to the Deputy Assistant Secretary of the Navy (Financial Management and Comptroller). Effective July 21, 2006.

Section 213.3309 Department of the Air Force

DFGS60019 Special Assistant to the Assistant Secretary (Installations, Environment and Logistics). Effective July 05, 2006.

DFGS60019 Special Assistant to the Assistant Secretary (Installations, Environment and Logistics). Effective July 21, 2006.

Section 213.3310 Department of Justice

DJGS00043 Confidential Assistant to the Assistant Attorney General (Legislative Affairs). Effective July 19, 2006.

DJGS00114 Special Assistant to the Attorney General. Effective July 20, 2006.

DJGS00046 Research Assistant to the Director. Effective July 21, 2006.

DJGS00121 Senior Counsel to the Assistant Attorney General. Effective July 21, 2006.

DJGS00252 Director of Advance to the Attorney General. Effective July 21, 2006.

DJGS00120 Deputy Chief of Staff to the Assistant Attorney General. Effective July 25, 2006.

Section 213.3311 Department of Homeland Security

DMGS00540 Policy Analyst to the Assistant Secretary for International Affairs. Effective July 02, 2006.

DMGS00538 Scheduler and Protocol Coordinator to the Director of Scheduling and Advance. Effective July 17, 2006.

DMGS00544 Advance Representative to the Director of Scheduling and Advance. Effective July 17, 2006.

DMGS00547 Coordinator for State Affairs to the Chief of Staff. Effective July 19, 2006.

DMGS00539 Assistant Director of Legislative Affairs for Mass Transit and Immigration to the Assistant Secretary for Congressional and Intergovernmental Affairs. Effective July 20, 2006.

DMGS00543 Advance Representative to the Director of Scheduling and Advance. Effective July 20, 2006.

DMGS00545 Special Assistant to the Executive Director, Homeland Security Advisory Committees. Effective July 21, 2006.

DMGS00548 Special Assistant for Faith-Based and Community Initiatives to the Director of Faith-Based and Community Initiatives. Effective July 21, 2006.

DMGS00549 Special Assistant to the Assistant Secretary for Infrastructure Protection. Effective July 21, 2006.

DMGS00550 Confidential Assistant to the Deputy Secretary of the Department of Homeland Security. Effective July 21, 2006.

DMGS00551 Confidential Assistant to the Chief of Staff. Effective July 21, 2006.

DMGS00552 Confidential Assistant to the General Counsel. Effective July 24, 2006.

DMGS00554 Special Assistant to the Chief of Staff. Effective July 24, 2006.

Section 213.3312 Department of the Interior

DIGS01073 Associate Director for Programs to the Director, Take Pride In America. Effective July 21, 2006.

Section 213.3313 Department of Agriculture

DAGS00852 Special Assistant to the Under Secretary for Rural Development. Effective July 21, 2006.

DAGS00856 Confidential Assistant to the Chief, Natural Research Conservation Service. Effective July 24, 2006.

DAGS00858 Staff Assistant to the Administrator, Farm Service Agency. Effective July 28, 2006.

Section 213.3314 Department of Commerce

DCGS00398 Special Assistant to the Deputy Assistant Secretary for Domestic Operations. Effective July 17, 2006.

DCGS60312 Senior Advisor to the Deputy Assistant Secretary for Domestic Operations. Effective July 21, 2006.

Section 213.3315 Department of Labor

DLGS60199 Special Assistant to the Assistant Secretary for Public Affairs. Effective July 5, 2006.

DLGS60160 Speechwriter to the Assistant Secretary for Public Affairs. Effective July 7, 2006.

DLGS60116 Special Assistant to the Chief Financial Officer. Effective July 21, 2006.

DLGS60153 Special Assistant to the Deputy Under Secretary for International Affairs. Effective July 21, 2006.

DLGS60176 Special Assistant to the Associate Deputy Secretary for Communications. Effective July 21, 2006.

DLGS60195 Senior Advisor to the Assistant Secretary for Employment Standards. Effective July 21, 2006.

Section 213.3316 Department of Health and Human Services

DHGS60018 Deputy Director for Advance to the Director of Scheduling. Effective July 07, 2006.

DHGS60036 Confidential Assistant to the Director of Intergovernmental Affairs. Effective July 19, 2006.

DHGS60016 Confidential Assistant to the Director, Center for Faith Based and Community Initiatives. Effective July 24, 2006.

DHGS60015 Deputy Director, Center for Faith-Based and Community Initiatives to the Director, Center for Faith-Based and Community Initiatives. Effective July 28, 2006.

DHGS60037 Director, Trafficking Program to the Director, Office of Refugee Resettlement. Effective July 28, 2006.

DHGS60336 Confidential Assistant to the Deputy Assistant Secretary for Legislation (Human Services). Effective July 28, 2006.

Section 213.3317 Department of Education

DBGS00546 Special Assistant to the Director, Scheduling and Advance Staff. Effective July 6, 2006.

DBGS00547 Special Assistant to the Assistant Secretary for Civil Rights. Effective July 6, 2006.

DBGS00550 Confidential Assistant to the Director, White House Liaison. Effective July 6, 2006.

DBGS00551 Confidential Assistant to the Senior Policy Advisor to the Deputy Secretary. Effective July 6, 2006.

DBGS00552 Confidential Assistant to the Assistant Deputy Secretary for Safe and Drug-Free Schools. Effective July 6, 2006.

DBGS00549 Special Assistant to the Assistant Secretary for Special Education and Rehabilitative Services. Effective July 7, 2006.

DBGS00553 Deputy Secretary's Regional Representative, Region 9 to the Assistant Secretary, Office of Communications and Outreach. Effective July 19, 2006.

DBGS00554 Confidential Assistant to the Deputy Chief of Staff for Policy and Programs. Effective July 21, 2006.

DBGS00555 Confidential Assistant to the Assistant Secretary for Management. Effective July 24, 2006.

DBGS00556 Confidential Assistant to the Chief of Staff to the Deputy Secretary. Effective July 25, 2006.

Section 213.3323 Overseas Private Investment Corporation

PQGS06002 Confidential Assistant to the President and CEO. Effective July 17, 2006.

Section 213.3331 Department of Energy

DEGS00528 Special Assistant to the Senior Advisor. Effective July 7, 2006.

DEGS00529 Special Assistant to the Senior Advisor. Effective July 7, 2006.

DEGS00531 Senior Advisor to the Principal Deputy Assistant Secretary. Effective July 21, 2006.

DEGS00532 Special Assistant to the Assistant Secretary for Congressional and Intergovernmental Affairs. Effective July 21, 2006.

DEGS00530 Policy Advisor to the Principal Deputy Assistant Secretary. Effective July 25, 2006.

DEGS00533 Senior Policy Advisor to the Assistant Secretary for Environment, Safety and Health. Effective July 27, 2006.

Section 213.3332 Small Business Administration

SBGS60153 Deputy Associate Administrator for Intergovernmental Affairs to the Associate Administrator for Field Operations. Effective July 7, 2006.

SBGS00601 Associate Administrator for Field Operations to the Administrator. Effective July 28, 2006.

Section 213.3339 United States International Trade Commission

TCGS60030 Confidential Assistant to a Commissioner. Effective July 24, 2006.

Section 213.3343 Farm Credit Administration

FLOT60013 Executive Assistant to a Member, Farm Credit Administration Board. Effective July 18, 2006.

Section 213.3344 Occupational Safety and Health Review Commission

SHGS00004 Confidential Assistant to a Commission Member. Effective July 19, 2006.

Section 213.3351 Federal Mine Safety and Health Review Commission

FRGS60017 Confidential Assistant to the Chairman. Effective July 7, 2006.

Section 213.3360 Consumer Product Safety Commission

PSGS60064 Special Assistant (Legal) to a Commissioner. Effective July 25, 2006.

Section 213.3373 Trade and Development Agency

TDGS60002 Congressional Liaison to the Director. Effective July 5, 2006.

Section 213.3384 Department of Housing and Urban Development

DUGS60330 Special Policy Advisor to the Assistant Secretary for Community Planning and Development. Effective July 13, 2006.

DUGS60293 Staff Assistant to the President, Government National Mortgage Association. Effective July 17, 2006.

DUGS60502 Special Policy Advisor to the Assistant Secretary for Public and Indian Housing. Effective July 17, 2006.

DUGS60213 Staff Assistant to the Assistant Secretary for Policy Development and Research. Effective July 20, 2006.

Section 213.3394 Department of Transportation

DTGS60372 Deputy Assistant Secretary for Governmental Affairs to the Assistant Secretary for Governmental Affairs. Effective July 17, 2006.

Section 213.3371 Office of Government Ethics

GGGS02900 Confidential Assistant to the Director. Effective July 21, 2006.

Authority: 5 U.S.C. 3301 and 3302; E.O. 10577, 3 CFR 1954-1958 Comp., p. 218.

Office of Personnel Management.
Dan G. Blair,
Deputy Director.

[FR Doc. E6-14490 Filed 8-30-06; 8:45 am]

BILLING CODE 6325-39-P